DEPARTMENT OF TRANSPORTATION

Federal Aviation Administration

14 CFR Part 71

[Airspace Docket No. 00-AGL-28]

Establishment of Class E Airspace; Stanley, ND; Correction

AGENCY: Federal Aviation Administration (FAA), DOT.

ACTION: Final rule; correction.

SUMMARY: This action corrects an error in the preamble under the caption “The Rule” of a Final Rule that was published in the Federal Register on Friday, January 4, 2002 (67 FR 516), Airspace Docket No. 00-AGL-28. The Final rule established Class E Airspace at Stanley, ND.

EFFECTIVE DATE: 0901 UTC February 21, 2002.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

Federal Register document 02-257, Airspace docket No. 00-AGL-28, published on January 4, 2002 (67 FR 516), established Class E Airspace at Stanley, ND. The following error was contained in the preamble under the caption “The Rule”: The city of Kenmare was referred to instead of Stanley. This action corrects this error.

Accordingly, pursuant to the authority delegated to me, the error for the Class E airspace, Stanley, ND, as published in the Federal Register January 4, 2002 (67 FR 516), (FR Doc. 02-257), is corrected as follows:

On page 516, column 2, under the caption “The Rule”, first sentence, correct “Kenmare” to read “Stanley”.

Issued in Des Plaines, Illinois on February 6, 2002.
Nancy B. Shelton,
Manager, Air Traffic Division, Great Lakes Region.

[FR Doc. 02-5117 Filed 3-8-02; 8:45 am]

BILLING CODE 4910-13-M